DEPARTMENT OF HOMELAND SECURITY

Fall 2024 Cybersecurity and Infrastructure Security Agency SBOM-a-Rama; Meeting

AGENCY: Cybersecurity and Infrastructure Security Agency (CISA), Department of Homeland Security (DHS).

ACTION: Announcement of public event.

SUMMARY: CISA will facilitate a public event to build on existing community-led work around Software Bill of Materials (SBOM) on specific SBOM topics. The first goal of this two-day event is to help the broader software and security community understand the current state of SBOM. Secondly, this event will foster discussion between organizations interested in exploring SBOM automation solutions and those focusing on open source and proprietary tools.

DATES: Wednesday September 11, 2024 from 11:00 a.m. to 6:00 p.m., Eastern Daylight Time, or 9:00 a.m. to 4:00 p.m., Mountain Daylight Time and Thursday September 12, 2024 from 10:00 a.m. to 1:30 p.m., Eastern Daylight Time, or 8:00 a.m. to 11:30 a.m., Mountain Daylight Time.

ADDRESSES: The event will be a hybrid event held at the Denver Athletic Club, 1325 Glenarm Place, Denver CO 80204, as well as virtually, with connection information and dial-in information available at https://www.cisa.gov/news-events/events/sbom-rama-fall-2024. A form to allow individuals to register their interest in either in-person or virtual participation will be available at https://www.cisa.gov/news-events/events/sbom-rama-fall-2024. See the “Participation in the SBOM-a-Rama” section in the SUPPLEMENTARY INFORMATION caption for more information on how to participate.

FOR FURTHER INFORMATION CONTACT: Allan Friedman, (202) 961-4349, Email: sbom@cisa.dhs.gov.

SUPPLEMENTARY INFORMATION: An SBOM has been identified by the cybersecurity community as a key aspect of modern cybersecurity, including software security and supply chain security. Executive Order (E.O.) 14028 declares that “the trust we place in our digital infrastructure should be proportional to how trustworthy and transparent that infrastructure is, and to the consequences we will incur if that trust is misplaced.” ¹ SBOMs play a key role in providing this transparency.

¹ E.O. 14028, Improving the Nation's Cybersecurity, 1, 86 FR 26633 (May 17, 2021).

E.O. 14028 defines SBOM as “a formal record containing the details and supply chain relationships of various components used in building software.” ² The E.O. further notes that “. . .software developers and vendors often create products by assembling existing open source and commercial software components. The SBOM enumerates these components in a product.” ³ Transparency from SBOMs aids multiple parties across the software lifecycle, including software developers, purchasers, and operators.⁴ Recognizing the importance of SBOMs in transparency and security, and that SBOM evolution and refinement is likely to be most effective coming from the community; CISA is facilitating a public event which is intended to advance the software and security communities' understanding of SBOM creation, use, and implementation across the broader technology ecosystem.

² Id. at 10(j), 86 FR 26633 at 26646 (May 17, 2021).

³ Ibid.

⁴ Ibid.

I. SBOM Background

The idea of an SBOM is not novel.⁵ It has been discussed and explored in the software industry for years, building on industrial and supply chain innovations.⁶ Academics identified the potential value of a “software bill of materials” as far back as 1995,⁷ and tracking use of third-party code is a longstanding software best practice.⁸

⁵ A brief summary of the history of a software bill of materials can be found in Carmody, S., Coravos, A., Fahs, G. et al. Building resilient medical technology supply chains with a software bill of materials. npj Digit. Med. 4, 34 (2021). https://doi.org/10.1038/s41746-021-00403-w.

⁶ See “Toyota Supply Chain Management: A Strategic Approach to Toyota's Renowned System” by Ananth V. Iyer, Sridhar Seshadri, and Roy Vasher—a work about Edwards Deming's Supply Chain Management https://books.google.com/books/about/Toyota_Supply_Chain_Management_A_Strateg.html?id=JY5wqdelrg8C

⁷ Leblang D.B., Levine P.H., Software configuration management: Why is it needed and what should it do? In: Estublier J. (eds) Software Configuration Management Lecture Notes in Computer Science, vol. 1005, Springer, Berlin, Heidelberg (1995).

⁸ The Software Assurance Forum for Excellence in Code (SAFECode), an industry consortium, has released a report on third party components that cites a range of standards. Managing Security Risks Inherent in the Use of Third-party Components, SAFECode (May 2017), available at https://www.safecode.org/wp-content/uploads/2017/05/SAFECode_TPC_Whitepaper.pdf.

Still, SBOM generation and sharing across the software supply chain was not seen as a commonly accepted practice in modern software. In 2018, the National Telecommunications and Information Administration (NTIA) convened the first multistakeholder process to promote software component transparency.⁹ Over the subsequent three years, this stakeholder community developed guidance to help foster the idea of SBOM, including high-level overviews, initial advice on implementation, and technical resources.¹⁰ When the NTIA-initiated multistakeholder process concluded, NTIA noted “what was an obscure idea became a key part of the global agenda around securing software supply chains.” ¹¹ In July 2022, CISA facilitated eight public listening sessions around four open topics (two for each topic): Cloud & Online Applications, Sharing & Exchanging SBOMs, Tooling & Implementation, and On-ramps & Adoption.¹² These public listening sessions resulted in the formation of four public, community-led workstreams around each of the four topics. These groups have been convening on a weekly basis since August 2022. More information can be found at https://cisa.gov/SBOM.

⁹ National Telecommunications and Information Administration (NTIA), Notice of Open Meeting, 83 FR 26434 (June 7, 2018).

¹⁰ Ntia.gov/SBOM.

¹¹ NTIA, Marking the Conclusion of NTIA's SBOM Process (Feb. 9, 2022), https://www.ntia.doc.gov/blog/2022/marking-conclusion-ntia-s-sbom-process.

¹² Public Listening Sessions on Advancing SBOM Technology, Processes, and Practices, https://www.federalregister.gov/documents/2022/06/01/2022-11733/public-listening-sessions-on-advancing-sbom-technology-processes-and-practices.

CISA believes that the concept of SBOM and its implementation would benefit from further refinement, and that a broad-based community effort can help scale and operationalize SBOM implementation. To support such a community effort to advance SBOM technologies, processes, and practices, CISA facilitated the 2023 CISA SBOM-a-Rama and the Winter 2024 SBOM-a-Rama. These events reach a broader, international audience, and allow the exchange of information and ideas from more perspectives. The Fall 2024 SBOM-a-Rama will build on the previous events to offer updates as well as present new discussion topics for consideration by the community.

II. Topics for CISA SBOM-a-Rama

The goal of this event is to help the broader software and security community understand the current state of SBOM and what efforts have been made by different parts of the SBOM community, including CISA-facilitated, community-led work and other activity from sectors and governments. Attendees are invited to ask questions, share comments, and raise further issues that need attention. CISA will also facilitate conversations on how the community can most efficiently make progress in addressing gaps in the SBOM ecosystem. One key focus of this event will be the need for tools to automate SBOM creation, management, and consumption.

A full agenda will be posted in advance of the meeting at https://www.cisa.gov/news-events/events/sbom-rama-fall-2024.

III. Participation in the SBOM-a-Rama

This event is open to the public. CISA welcomes participation from anyone interested in learning about the current state of SBOM practice and implementation including private sector practitioners, policy experts, academics, and representatives from non-U.S. organizations. Additional information, including the meeting link, will be available one week before the meeting date at https://www.cisa.gov/SBOM.

This notice is issued under the authority of 6 U.S.C. 652(c)(10)-(11) and 6 U.S.C. 659(c)(4).

Eric Goldstein,
Executive Assistant Director for Cybersecurity, Cybersecurity and Infrastructure Security Agency, Department of Homeland Security.

[FR Doc. 2024-10922 Filed 5-17-24; 8:45 am]

BILLING CODE 9111-LF-P